DEPARTMENT OF ENERGY

Federal Energy Regulatory Commission

Combined Notice of Filings #1

Take notice that the Commission received the following electric corporate filings:

Docket Numbers: EC16-54-000.

Applicants: Goal Line L.P., KES Kingsburg, L.P., Colton Power L.P.

Description: Correction to December 23, 2015 Application for Authorization of Disposition of Jurisdictional Facilities of Goal Line L.P., et al.

Filed Date: 1/15/16.

Accession Number: 20160115-5669.

Comments Due: 5 p.m. ET 1/25/16.

Take notice that the Commission received the following electric rate filings:

Docket Numbers: ER13-712-011; ER10-1325-006; ER16-141-002; ER12-1946-006; ER15-255-001; ER10-2566-007; ER10-1333-006; ER15-2387-001; ER10-2034-005; ER10-2032-005; ER10-2033-005; ER13-2322-003; ER15-190-003; ER10-1335-006; ER10-1328-002; ER12-1502-003; ER10-2567-003; ER12-2313-002; ER10-1330-004; ER16-323-001; ER16-61-002; ER16-63-002; ER10-1331-002; ER16-64-002; ER10-1332-002; ER10-2522-003.

Applicants: Cimarron Wind Energy, LLC, CinCap V, LLC, Conetoe II Solar, LLC, Duke Energy Beckjord, LLC, Duke Energy Beckjord Storage, LLC, Duke Energy Carolinas, LLC, Duke Energy Commercial Enterprises, Inc., Duke Energy Florida, Inc., Duke Energy Indiana, Inc., Duke Energy Kentucky, Inc., Duke Energy Ohio, Inc., Duke Energy Progress, Inc., Duke Energy Renewable Services, LLC, Duke Energy Retail Sales, LLC, Happy Jack Windpower, LLC, Ironwood Windpower, LLC, Kit Carson Windpower, LLC, Laurel Hill Wind Energy, LLC, North Allegheny Wind, LLC, Ohio Valley Electric Corporation, Seville Solar One LLC, Seville Solar Two LLC, Silver Sage Windpower, LLC, Tallbear Seville LLC, Three Buttes Windpower, LLC, Top of the World Wind Energy, LLC.

Description: Notification of Non-Material Change in Status of Duke Energy Corporation MBR Sellers.

Filed Date: 1/15/16.

Accession Number: 20160115-5676.

Comments Due: 5 p.m. ET 2/5/16.

Docket Numbers: ER15-1019-004.

Applicants: Fowler Ridge IV Wind Farm LLC.

Description: Notice of Non-Material Change in Status of Fowler Ridge IV Wind Farm LLC.

Filed Date: 1/15/16.

Accession Number: 20160115-5650.

Comments Due: 5 p.m. ET 2/5/16.

Docket Numbers: ER15-1861-000.

Applicants: Tucson Electric Power Company.

Description: Report Filing: Response to Deficiency Letter to be effective N/A.

Filed Date: 1/19/16.

Accession Number: 20160119-5223.

Comments Due: 5 p.m. ET 2/9/16.

Docket Numbers: ER16-118-001.

Applicants: Midcontinent Independent System Operator, Inc., ALLETE, Inc.

Description: Compliance filing: 2016-01-19_ALLETE Transmission Rate Compliance Filing to be effective 1/1/2016.

Filed Date: 1/19/16.

Accession Number: 20160119-5237.

Comments Due: 5 p.m. ET 2/9/16.

Docket Numbers: ER16-737-000.

Applicants: Southwest Power Pool, Inc.

Description: Section 205(d) Rate Filing: Attachment H, Attachment L and Section 34.8 Clean-up FIling to be effective 1/1/2016.

Filed Date: 1/15/16.

Accession Number: 20160115-5494.

Comments Due: 5 p.m. ET 2/5/16.

Docket Numbers: ER16-738-000.

Applicants: Colonial Eagle Solar, LLC.

Description: Section 205(d) Rate Filing: Amendment to MBR Tariff to be effective 11/20/2015.

Filed Date: 1/15/16.

Accession Number: 20160115-5512.

Comments Due: 5 p.m. ET 2/5/16.

Docket Numbers: ER16-739-000.

Applicants: PJM Interconnection, L.L.C.

Description: Section 205(d) Rate Filing: Original WMPA Service Agreement No. 4360, Queue No. AA1-080 to be effective 12/21/2015.

Filed Date: 1/19/16.

Accession Number: 20160119-5185.

Comments Due: 5 p.m. ET 2/9/16.

Docket Numbers: ER16-740-000.

Applicants: Southwest Power Pool, Inc.

Description: Compliance filing: ITC Great Plains, LLC Formula Rate Compliance Filing to be effective 1/1/2016.

Filed Date: 1/19/16.

Accession Number: 20160119-5186.

Comments Due: 5 p.m. ET 2/9/16.

Docket Numbers: ER16-741-000.

Applicants: PJM Interconnection, L.L.C.

Description: Section 205(d) Rate Filing: Original WMPA Service Agreement No. 4361, Queue No. AA1-096 to be effective 12/21/2015.

Filed Date: 1/19/16.

Accession Number: 20160119-5191.

Comments Due: 5 p.m. ET 2/9/16.

Docket Numbers: ER16-742-000.

Applicants: PJM Interconnection, L.L.C.

Description: Section 205(d) Rate Filing: Original Service Agreement No. 4392; Queue AA1-093 (WMPA) to be effective 12/21/2015.

Filed Date: 1/19/16.

Accession Number: 20160119-5232.

Comments Due: 5 p.m. ET 2/9/16.

Docket Numbers: ER16-744-000.

Applicants: Midcontinent Independent System Operator, Inc., WPPI Energy.

Description: Filing for Authorization of Regulatory Asset Amount of Midcontinent Independent System Operator, Inc., on behalf of WPPI Energy.

Filed Date: 1/15/16.

Accession Number: 20160115-5681.

Comments Due: 5 p.m. ET 2/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2016.
Nathaniel J. Davis, Sr.,
Deputy Secretary.

[FR Doc. 2016-01453 Filed 1-25-16; 8:45 am]

BILLING CODE 6717-01-P